DEPARTMENT OF DEFENSE

Office of the Secretary

Intent To Prepare an Environmental Impact Statement for Campus Development Project Within the Fort Meade Complex, MD

AGENCY: Department of Defense.

ACTION: Notice of intent; notice of public meeting; request for comments.

SUMMARY: The Department of Defense (DOD) announces its intent to prepare an Environmental Impact Statement (EIS) as part of the environmental planning process for a Campus Development Project at Fort George G. Meade, Maryland (hereafter referred to as Fort Meade). The DOD proposes the development of a portion of Fort Meade (referred to as “Site M”) as an operational complex and to construct and operate consolidated facilities to meet the National Security Agency's (NSA) continually evolving requirements and for Intelligence Community use. The purpose of the Proposed Action is to provide facilities that are fully-supportive of the Intelligence Community's mission. The need for the action is to consolidate multiple agencies' efforts to ensure capabilities for current and future mission accomplishments as directed by Congress and the President.

Publication of this notice begins a scoping process that identifies and determines the scope of environmental issues to be addressed in the EIS. This notice requests public participation in the scoping process and provides information on how to participate.

DATES: There will be an open house at 4 p.m. followed by a scoping meeting from 5 p.m. to 7 p.m. on Tuesday, July 21, 2009, at Fort Meade Middle School, 1103 26th Street, Fort Meade, Maryland 20755. Comments or questions regarding this EIS should be submitted by 45 days from the date of publication in the Federal Register to ensure sufficient time to consider public input in the preparation of the Draft EIS.

ADDRESSES: The open house and scoping meeting will be held at the Fort Meade Middle School, 1103 26th Street, Fort Meade, Maryland 20755. Oral and written comments will be accepted at the scoping meeting. You can also submit written comments to “Campus Development EIS” c/o E2M, 2751 Prosperity Avenue, Suite 200, Fairfax, VA 22031 or submitted by e-mail to CampusEIS@e2m.net.

FOR FURTHER INFORMATION CONTACT: Mr. Jeffrey Williams at (301) 688-2970, or e-mail jdwill2@nsa.gov.

SUPPLEMENTARY INFORMATION: Background: The NSA is a tenant DOD agency on Fort Meade. NSA is a high-technology organization that is on the frontier of communications and data processing. In order to meet mission growth requirements as well as provide consolidated facilities that are fully-supportive of the Intelligence Community's mission, development of a modern operational complex is needed at the NSA campus on Fort Meade.

Proposed Action and Alternatives: The Campus Development Project was initiated to provide a modern operational complex to meet the growth requirements of NSA and consolidated facilities for Intelligence Community use. Development is proposed for a portion of Fort Meade (referred to as “Site M”) adjacent to the NSA campus. Site M is divided into northern (Site M1, 137 acres) and southern (Site M2, 99 acres) portions. DOD proposes that development of Site M occur in three option phases over a horizon of approximately 20 years.

• Phase I. Development would occur in the near term on the western half of Site M1, supporting 1.8 million square feet of facilities for NSA to consolidate mission elements, enabling services, and support services across the campus based on function; servicing the need for more collaborative environment and optimal adjacencies, including associated infrastructure (e.g., electrical substation and generator plants providing 60 megawatts of electricity) and administrative functions for up to 6,500 personnel.

• Phase II. Development would occur in the mid-term on the eastern half of Site M1, supporting 1.2 million square feet of administrative facilities.

• Phase III. Development would occur on Site M2 in the long term, supporting an additional 2.8 million square feet of administrative facilities, bringing built space to 5.8 million square feet for up to 11,000 personnel.

Alternatives identified include each of the development phases identified above, as well as three options for redundant emergency backup power generation and various pollution control systems. These alternatives will be further developed during preparation of the Draft EIS as a result of public and agency input and environmental analyses of the activities. The No Action Alternative (not undertaking the Campus Development Project) will also be analyzed in detail.

This notice of intent is required by 40 Code of Federal Regulations (CFR) 1508.22 and briefly describes the proposed action and possible alternatives and our proposed scoping process. The EIS will comply with the National Environmental Policy Act of 1969 (NEPA), the Council on Environmental Quality regulations in 40 CFR parts 1500-1508, and DOD Instruction 4715.9 (Environmental Planning and Analysis).

Significant Issues: Environmental issues to be analyzed in the EIS will include potential impacts on air quality, natural resources, water use, solid waste, transportation, and cumulative impacts from increased burdens to the installation and neighboring community based on projected growth.

Scoping Process: Public scoping is an early and open process for identifying and determining the scope of issues to be addressed in the EIS. Scoping begins with this notice, continues through the public comment period (see DATES), and ends when the DOD has completed the following actions:

—Invites the participation of Federal, State, and local agencies, any affected Indian tribe and other interested persons

—Determines the actions, alternatives, and impacts described in 40 CFR 1508.25

—Identifies and eliminates from detailed study those issues that are not significant or that have been covered elsewhere

—Indicates any related environmental assessments or environmental impact statements that are not part of the EIS

—Other relevant environmental review and consultation requirements

—Indicates the relationship between timing of the environmental review and other aspects of the proposed program

—At its discretion, exercises the options provided in 40 CFR 1501.7(b).

Once the scoping process is complete, the DOD will prepare a Draft EIS, and will publish a Federal Register notice announcing its public availability. If you want that notice to be sent to you, please contact the DOD Project Office point of contact identified in FOR FURTHER INFORMATION CONTACT. You will have an opportunity to review and comment on the Draft EIS. Additionally, the DOD anticipates holding a public meeting after publication of the Draft EIS in the vicinity of Fort Meade, Maryland to present the Draft EIS and receive public comments regarding the document. The DOD will consider all comments received and then prepare the Final EIS. As with the Draft EIS, the DOD will announce the availability of the Final EIS and once again give you an opportunity for review and comment.

Dated: June 29, 2009.
Morgan E. Frazier,
Alternate OSD Federal Register Liaison Officer, Department of Defense.

[FR Doc. E9-15621 Filed 7-1-09; 8:45 am]

BILLING CODE 5001-06-P